SECURITIES AND EXCHANGE COMMISSION

[File No. 500-1]

In the Matter of Black Sea Metals, Inc., GigaBeam Corp., Safe Technologies International, Inc., and Whitemark Homes, Inc.; Order of Suspension of Trading

March 5, 2015.

It appears to the Securities and Exchange Commission that there is a lack of current and accurate information concerning the securities of Black Sea Metals, Inc. because it has not filed any periodic reports since the period ended May 31, 2012.

It appears to the Securities and Exchange Commission that there is a lack of current and accurate information concerning the securities of GigaBeam Corp. because it has not filed any periodic reports since the period ended September 30, 2007.

It appears to the Securities and Exchange Commission that there is a lack of current and accurate information concerning the securities of Safe Technologies International, Inc. because it has not filed any periodic reports since the period ended December 31, 2010.

It appears to the Securities and Exchange Commission that there is a lack of current and accurate information concerning the securities of Whitemark Homes, Inc. because it has not filed any periodic reports since the period ended September 30, 2012.

The Commission is of the opinion that the public interest and the protection of investors require a suspension of trading in the securities of the above-listed companies.

Therefore, it is ordered, pursuant to Section 12(k) of the Securities Exchange Act of 1934, that trading in the securities of the above-listed companies is suspended for the period from 9:30 a.m. EST on March 5, 2015, through 11:59 p.m. EDT on March 18, 2015.

By the Commission.
Jill M. Peterson,
Assistant Secretary

[FR Doc. 2015-05515 Filed 3-6-15; 11:15 am]

BILLING CODE 8011-01-P